DEPARTMENT OF ENERGY

Federal Energy Regulatory Commission

[Docket No. EL17-9-000]

Central Hudson Gas & Electric Corporation; Tucson Electric Power Company; UNS Electric, Inc.; UniSource Energy Development Company; Notice of Institution of Section 206 Proceeding and Refund Effective Date

On November 8, 2016, the Commission issued an order in Docket No. EL17-9-000, pursuant to section 206 of the Federal Power Act (FPA), 16 U.S.C. 824e (2012), instituting an investigation into the justness and reasonableness of Central Hudson Gas & Electric Corporation's, Tucson Electric Power Company's, UNS Electric, Inc.'s, and UniSource Energy Development Company's market-based rate authority in the Tucson Electric balancing authority area. Central Hudson Gas & Electric Corporation et al., 157 FERC ¶ 61,092 (2016).

The refund effective date in Docket No. EL17-9-000, established pursuant to section 206(b) of the FPA, will be the date of publication of this notice in the Federal Register.

Any interested person desiring to be heard in Docket No. EL17-9-000 must file a notice of intervention or motion to intervene, as appropriate, with the Federal Energy Regulatory Commission, 888 First Street NE., Washington, DC 20426, in accordance with Rule 214 of the Commission's Rules of Practice and Procedure, 18 CFR 385.214 (2016), within 30 days of the date of issuance of the order.

Dated: November 8, 2016.
Nathaniel J. Davis, Sr.,
Deputy Secretary.

[FR Doc. 2016-27480 Filed 11-15-16; 8:45 am]

BILLING CODE 6717-01-P